ENVIRONMENTAL PROTECTION AGENCY

[FRC-7654-6]

Notice of Proposed Administrative Settlement Pursuant to the Comprehensive Environmental Response, Compensation, and Liability Act, as Amended by the Superfund Amendments and Reauthorization Act

AGENCY: Environmental Protection Agency (EPA).

ACTION: Notice, request for public comments.

SUMMARY: In accordance with section 122(i) of the Comprehensive Environmental Response, Compensation, and Liability Act, as amended (“CERCLA”), 42 U.S.C. 9622(i), notice is hereby given of a proposed Administrative Order on Consent (“AOC, Region 9 Docket No. 2004-0014”) pursuant to section 122(h) of CERCLA concerning the A-American Environmental Removal Site (the “Site”), located in Alhambra, California. The respondent to the AOC is William Anderson (“Anderson”). The AOC provides Anderson with a covenant not to sue and contribution protection for the removal action at the Site. To date, EPA has incurred approximately $599,844.04 in response costs related to the Site. Anderson is reimbursing $15,000.00 of the incurred response costs to EPA, consistent with EPA's determination of Anderson's ability to pay. For thirty (30) days following the date of publication of this notice, the Agency will receive written comments relating to the proposed AOC. The Agency's response to any comments will be available for public inspection at IPA's Region IX offices, located at 75 Hawthorne Street, San Francisco, California 94105.

DATES: Comments must be submitted on or before May 28, 2004.

ADDRESSES: The proposed Agreement may be obtained from Judith Winchell, Environmental Protection Specialist, telephone (415) 972-3124. Comments regarding the proposed Agreement should be addressed to Judith Winchell (SFD-7) at EPA, Region IX, 75 Hawthorne Street, San Francisco, California 94105, and should reference the A-American Environmental Removal Site, Alhambra, California and USEPA Docket No. 2004-0014.

FOR FURTHER INFORMATION CONTACT: J. Andrew Helmlinger, Office of Regional Counsel, telephone (415) 972-3904, USEPA Region IX, 75 Hawthorne Street, San Francisco, California 94105.

Dated: April 19, 2004.
J. Andrew Helmlinger,
Office Regional Counsel, Region 9.

[FR Doc. 04-9576 Filed 4-27-04; 8:45 am]

BILLING CODE 6560-50-M